DEPARTMENT OF THE INTERIOR

National Park Service

National Register of Historic Places; Notification of Pending Nominations and Related Actions

Nominations for the following properties being considered for listing or related actions in the National Register were received by the National Park Service before January 26, 2008. Pursuant to section 60.13 of 36 CFR part 60 written comments concerning the significance of these properties under the National Register criteria for evaluation may be forwarded by United States Postal Service, to the National Register of Historic Places, National Park Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by February 26, 2008.

J. Paul Loether,
Chief, National Register of Historic Places/National Historic Landmarks Program.

ARIZONA

Maricopa County

Bunch, E.C., House, 5602 W. Lamar Rd., Glendale, 08000123.

COLORADO

Grand County

Shadow Mountain Trail, (Rocky Mountain National Park MPS) E. side of Shadow Mt. Lake, Grand Lake, 08000124.

Tonahutu Creek Trail, (Rocky Mountain National Park MPS) Roughly along Tonahutu Cr. to Flattop Mt., Grand Lake, 08000130.

Larimer County

Lake Haiyaha Trail, (Rocky Mountain National Park MPS) Roughly along Bear, Nymph & Dream Lakes, then up Chaos Canyon, Estes Park, 08000125.

Lost Lake Trail, (Rocky Mountain National Park MPS) Roughly along N. Fork Big Thompson R., Estes Park, 08000126.

North Inlet Trail, (Rocky Mountain National Park MPS) Roughly along N. Inlet & Hallett Cr. to Flattop Mt., Grand Lake, 08000127.

Ypsilon Lake Trail, (Rocky Mountain National Park MPS) Along ridge between Chiquita Cr. & Roaring R., Estes Park, 08000131.

INDIANA

Marion County

Nurses' Sunken Garden and Convalescent, Bounded by Michigan St., Rotary Bldg., West Dr. & Union Bldg., Indianapolis, 08000132.

MINNESOTA

Washington County

Bergstein, Monitz, Shoddy Mill and Warehouse, 6046 Stagecoach Rd., Oak Park Heights, 08000133.

NEW JERSEY

Mercer County

East Trenton Public Library, 701 N. Clinton St., Trenton, 08000134.

Monmouth County

Squan Beach Life-Saving Station #9, Ocean & 2nd Aves., Manasquan, 08000135.

Morris County

Pompton Plains Railroad Station, 33 Evans Place, Pequannock, 08000136.

Somerset County

Robert, Robert, House, 25 West End Ave., Somerville, 08000137.

NEW YORK

Albany County

Knox Street Historic District, Knox St. between Madison Ave. & Morris St., Albany, 08000138.

Herkimer County

South Ann Street—Mill Street Historic District, S. Ann & Mill Sts., Little Falls, 08000139.

New York County

Fraunces Tavern, 54 Pearl St., New York 08000140.

Onondaga County

Hotel Syracuse, 500 S. Warren St., Syracuse, 08000141.

Orange County

Dodge—Greenleaf House, 2009 NY 211, Otisville, 08000142.

Queens County

St. George's Church, 135-32 38th Ave., Flushing, 08000143.

Schenectady County

Bishop Family Lustron House, (Lustron Houses in New York MPS) 26 Slater Dr., Schenectady, 08000144.

Enlarged Double Lock No. 23, Old Erie Canal, Rice Rd., Rotterdam, 08000145.

Westchester County

Hadden—Margolis House, 61 Winfield Ln., Harrison, 08000146.

OHIO

Cuyahoga County

Strongsville Town Hall, 18825 Royalton Rd., Strongsville, 08000147.

Lawrence County

Brunberg Building, 222 S. 3rd St., Ironton, 08000148.

Marlow Theatre, S. 3rd & Park Sts., Ironton, 08000149.

OKLAHOMA

Greer County

Jay Buckle Springs, E. of Co. Rd. N1840, 500 ft. N. of jct. with Co. Rd. E1420, Reed, 08000150.

Oklahoma County

Fidelity National Building, 200 N. Harvey Center, Oklahoma City, 08000151.

RHODE ISLAND

Bristol County

Jennys Lane Historic District, Jennys Ln., Mathewson & Rumstick Rds.

Newport County

St. Mary's Church Complex, 14 William St., Newport, 08000153.

SOUTH CAROLINA

York County

Bleachery Water Treatment Plant, (Rock Hill MPS) Stewart Ave., Rock Hill, 08000154.

Rock Hill Body Company, (Rock Hill MPS) 601 W. Main St., Rock Hill, 08000155.

Rock Hill Cotton Factory (Boundary Increase), (Rock Hill MPS) 130 W. White St., Rock Hill, 08000156.

VERMONT

Addison County

Bottum Farm, (Agriculture Resources of Vermont MPS) 1423 North St., New Haven, 08000157.

Windham County

Tontine Building, 500 Coolidge Hwy., Guilford, 08000158.

Windsor County

Old Christ Church, (Religious Buildings, Sites and Structures in Vermont MPS) Jct. of VT 12 and Gilead Brook Rd., Bethel, 08000159.

WISCONSIN

Grant County

Kinney, Patrick and Margaret, House, 424 N. Fillmore St., Lancaster, 08000160.

[FR Doc. 08-590 Filed 2-8-08; 8:45 am]

BILLING CODE 4312-51-M